SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 19, 2005.

ADDRESSES: Send all comments regarding whether this information collection is necessary for the proper performance of the function of the agency, whether the burden estimates are accurate, and if there are ways to minimize the estimated burden and enhance the quality of the collection, to Louis Cupp, New Markets Policy Analyst, Office of Investment Division, Small Business Administration, 409 3rd Street SW., Suite 6300, Wash., DC 20416

FOR FURTHER INFORMATION CONTACT: Louis Cupp, New Markets Policy Analyst, 202-619-0511, louis.cupp@sba.gov, Curtis B. Rich, Management Analyst, 202-205-7030, curtis.rich@sba.sba.

SUPPLEMENTARY INFORMATION:

Title: “New Markets Venture Capital (NMVC) Program Application Funding and Reporting.”

Description of Respondents: Program Applications and participants; SSBIC receiving grants under the NMVC program.

Form No's: SF'S 269, 270, 272, 424 SBA Forms 34, 159, 468, 1031, 2184, 2185, 2207-2211, 2219.

Annual Responses: 1,131.

Annual Burden: 13,925.

Jacqueline White,
Chief, Administrative Information Branch.

[FR Doc. 05-3222 Filed 2-17-05; 8:45 am]

BILLING CODE 8025-01-P